DEPARTMENT OF AGRICULTURE

Federal Crop Insurance Corporation

Notice of Intent to Seek Approval to Conduct an Information Collection

AGENCY: Risk Management Agency, USDA.

ACTION: Notice and request for comments.

SUMMARY: In accordance with the Paperwork Reduction Act of 1995, this notice announces the Risk Management Agency's intent to request approval for an information collection, the Survey of Risk Management Practices of Specialty Crop Producers.

DATES: Written comments on this notice will be accepted until close of business November 13, 2001.

ADDRESSES: Interested persons are invited to submit written comments to David Fulk, United States Department of Agriculture (USDA), Research and Evaluation Division, Federal Crop Insurance Corporation, Risk Management Agency, 6501 Beacon Drive, Mail Stop 813, Kansas City, MO 64133.

FOR FURTHER INFORMATION CONTACT: David Fulk or Virginia Guzman, at the Kansas City, MO address listed above, telephone (816) 926-6343 or (816) 926-3843, respectively.

SUPPLEMENTARY INFORMATION: Title: Survey of Risk Management Practices of Specialty Crop Producers.

OMB Number: 0563-NEW.

Type of Request: Intent to Seek Approval to Conduct an Information Collection.

Abstract: The goal of this project is to expand the knowledge base related to the risk management practices and preferences of specialty crop producers. Initially the survey will be limited to California, Florida, Pennsylvania, and New York.

Studies by the Economic Research Service (ERS) have indicated that the specialty crops, in general, differ in risk structure compared with the traditional crops for which the current insurance programs were primarily designed. That analysis supports the idea that the current insurance structures may need to be redesigned to provide adequate insurance programs for producers of specialty crops. Addressing the question of how existing crop insurance programs can best be adapted to specialty crops is vital since it relates directly to the core issues of participation and performance. Policy options for crop insurance reform need to be analyzed carefully by examining the risks specific to specialty crop producers and analyzing growers' demand for risk management tools. Applicable economic studies for specialty crops are generally sparse. This survey will provide essential information relating to crop insurance for California, Florida, New York, and Pennsylvania specialty crop producers.

The project addresses the following objectives: (1) To determine why (federal) crop insurance is utilized at current levels by specialty crop producers in California, New York, Florida, and Pennsylvania; (2) to identify the potential market for crop insurance for specialty crop producers in the four states; and (3) to determine how crop insurance programs could be designed to better meet the needs of specialty crop producers in California, New York, Florida, and Pennsylvania.

The survey will cover approximately 67,000 farms operated as sole proprietorships, partnerships, or family corporations. The respondent will be the operator of each farm. The projected useable responses are approximately 53,200 cases. In addition to the presolicitation request and the actual mailed questionnaire, follow-up phone interviews will be used to contact non-respondents. The California Agricultural Statistics Service, Florida Agricultural Statistics Service, Pennsylvania Agricultural Statistics Service and the New York Agricultural Statistics Service will conduct all data collection activities and be responsible for all respondent contacts. Approximately two weeks prior to the actual survey mailing, pre-survey letters will be sent to the sample members explaining the purpose of the study and alerting them to the arrival and importance of the upcoming survey.

The purpose of this notice is to solicit comments from the public concerning this information collection activity. These comments will help:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond, through use, as appropriate, of automated, electronic, mechanical, and other collection technologies, e.g., permitting electronic submission of responses.

Please submit written comments to the Desk Officer for Agriculture, Office of Information and Regulatory Affairs, Office of Management and Budget (OMB), Washington, DC 20503.

Estimate of Burden: Test interviews indicated that completion of the survey would require approximately 45 minutes. There will be a pre-survey letter mailed to 67,000 specialty crop farm operators in the four states, as well as follow-up phone interviews with non-respondents.

Respondents: Specialty crop farm operators in California, New York, Florida, and Pennsylvania.

Estimated Annual Number of Respondents: 53,600 responses.

Estimated annual number of responses per respondent: 1.

Estimated annual number of responses: 53,600.

Estimated Total Annual Burden on Respondents: 41,600 hours.

Signed in Washington, DC, September 4, 2001.
Craig A. Witt,
Acting Manager, Federal Crop Insurance Corporation.

[FR Doc. 01-22801 Filed 9-10-01; 8:45 am]

BILLING CODE 3410-08-P